DEPARTMENT OF THE INTERIOR

Fish and Wildlife Service

[FWS-R8-ES-2024-N022; FXES11130800000-245-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before May 29, 2024.

ADDRESSES:

Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
101743 | Daniel Edelstein, Novato, California | • California tiger salamander (Ambystoma californiense), Santa Barbara County and Sonoma County distinct population segments California Ridgway's rail (Rallus obsoletus obsoletus) | CA | Survey using recorded vocalizations, survey, capture, handle, and release | Renew.
29522A | Kenneth Gilliland, Ventura, California | • California tiger salamander (Ambystoma californiense), Santa Barbara County distinct population segment • Tidewater goby (Eucyclogobius newberryi) | CA | Survey, capture, handle, swab, and release | Amend.
PER0011950 | Brian Nissen, Folsom, California | • California tiger salamander (Ambystoma californiense), Santa Barbara County and Sonoma distinct population segments | CA | Survey, capture, handle, swab, and release | Amend.
103076 | Transcon Environmental, Inc., Mesa, Arizona | • California tiger salamander (Ambystoma californiense), Santa Barbara County and Sonoma distinct population segments | CA | Survey, capture, handle, swab, and release | Renew.
98090C | FISHBIO, Oakdale, California | • Tidewater goby (Eucyclogobius newberryi) | CA | Survey, capture, handle, and release | Renew.
31350D | Timothy Salamunovich, Arcata, California | • Tidewater goby (Eucyclogobius newberryi) | CA | Survey, capture, handle, release, and collect voucher specimens | Renew.
806679 | Spring Rivers Ecological Sciences, Cassel, California | • Shasta crayfish (Pacifastacus fortis) | CA | Capture, weigh, mark, sacrifice, collect tissue, release, and translocate/release to restored habitat | Renew.
02478D | Jennifer Jackson, Imperial Beach, California | • California least tern (Sternula antillarum browni) | CA | Survey, locate and monitor nests, handle/mark eggs, capture, handle, band, and release chicks | Renew.
93824C | Jill Coumoutso, Fontana, California | • Southwestern willow flycatcher (Empidonax traillii extimus) | CA | Survey using recorded vocalizations | Renew.
PER9084448 | Oregon Cooperative Fish and Wildlife Research Unit, Corvallis, Oregon | • Independence Valley speckled dace (Rhinichthys osculus lethoporus) | NV | Survey, capture, handle, mark, and release | New.
67253D | Sequoia Park Zoo, Eureka, California | • Behren's silverspot butterfly (Speyeria zerene behrensii) | CA | Euthanize sick individuals and mark | Amend.
85448A | Conservation Society of California, Oakland, California | • California condor (Gymnogyps californianus) | CA | Receive, hold in captivity, handle, provide veterinarian treatment and care, transport, and transfer | Renew.
PER0003725 | Melanie Madden, San Diego, California | • Southwestern willow flycatcher (Empidonax traillii extimus) • Least Bell's vireo (Vireo bellii pusillus) | CA, NV | Survey using recorded vocalizations, locate and monitor nests, capture, handle, measure, weigh, band, color-band, release, collect body feathers and blood, and remove brown-headed cowbird (Molothrus ater) eggs and chicks from parasitized nests | Renew.
095868 | David Kisner, Orcutt, California | • Southwestern willow flycatcher (Empidonax traillii extimus) • Least Bell's vireo (Vireo bellii pusillus) | CA | Survey using recorded vocalizations, locate and monitor nests, and remove brown-headed cowbird (Molothrus ater) eggs and chicks from parasitized nests, capture, handle, band and color-band adults, and release | Renew.
157216 | USGS—Western Ecological Research Center, Dixon, California | • Sierra Nevada yellow-legged frog (Rana sierrae) • Mountain yellow-legged frog (Rana muscosa) Northern California distinct population segment • Yosemite toad (Anaxyrus canorus) • Foothill yellow-legged frog (Rana boylii) South Sierra and South Coast distinct population segments | CA | Survey, capture, handle, measure, swab, collect genetic material, collect individuals, insert PIT tags, insert elastomers, and release | Amend.
|  | • San Francisco gartersnake (Thamnophis sirtalis tetrataenia)
781084 | Anita Hayworth, Encinitas, California | • Conservancy fairy shrimp (Branchinecta conservatio) • Longhorn fairy shrimp (Branchinecta longiantenna) • Vernal pool tadpole shrimp (Lepidurus packardi) • Riverside fairy shrimp (Streptocephalus woottoni) | CA | Survey, survey by pursuit, survey using recorded vocalizations, capture, handle, release, collect adult vouchers, and collect branchiopod resting eggs | Renew.
|  | • San Diego fairy shrimp (Branchinecta sandiegonensis)
|  | • Quino checkerspot butterfly (Euphydryas editha quino)
|  | • Southwestern willow flycatcher (Empidonax traillii extimus)
PER0012535 | Laura Gorman, Encinitas, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA, NV | Survey, survey by pursuit, survey using recorded vocalizations, capture, handle, release, collect adult vouchers, and collect branchiopod resting eggs | Renew.
|  | • Quino checkerspot butterfly (Euphydryas editha quino)
|  | • Southwestern willow flycatcher (Empidonax traillii extimus)
PER8784222 | William Raitter, Huntington Beach, California | • Riverside fairy shrimp (Streptocephalus woottoni) • San Diego fairy shrimp (Branchinecta sandiegonensis) | CA | Survey, survey by pursuit, capture, handle, release, and collect adult vouchers | New.
PER8964697 | Sarah Wood, Meadow Vista, California | • Conservancy fairy shrimp (Branchinecta conservatio) • Longhorn fairy shrimp (Branchinecta longiantenna) | CA | Survey, capture, handle, release, and collect adult vouchers | New.
|  | • Vernal pool tadpole shrimp (Lepidurus packardi)
|  | • Riverside fairy shrimp (Streptocephalus woottoni)
|  | • San Diego fairy shrimp (Branchinecta sandiegonensis)
PER9095125 | Emely Romo, Long Beach, California | • Conservancy fairy shrimp (Branchinecta conservatio) • Longhorn fairy shrimp (Branchinecta longiantenna) • Vernal pool tadpole shrimp (Lepidurus packardi) | CA | Survey, capture, handle, release, and collect adult vouchers | New.
|  | • Riverside fairy shrimp (Streptocephalus woottoni)
|  | • San Diego fairy shrimp (Branchinecta sandiegonensis)
PER9091670 | Dustin Brabandt, San Diego, California | • Conservancy fairy shrimp (Branchinecta conservatio) • Longhorn fairy shrimp (Branchinecta longiantenna) • Vernal pool tadpole shrimp (Lepidurus packardi) | CA | Survey, capture, handle, release, and collect adult vouchers | New.
|  | • Riverside fairy shrimp (Streptocephalus woottoni)
|  | • San Diego fairy shrimp (Branchinecta sandiegonensis)
PER9090570 | Samuel Wentworth, Oakland, California | • Conservancy fairy shrimp (Branchinecta conservatio) • Longhorn fairy shrimp (Branchinecta longiantenna) • Vernal pool tadpole shrimp (Lepidurus packardi) | CA | Survey, capture, handle, release, and collect adult vouchers | New.
|  | • Riverside fairy shrimp (Streptocephalus woottoni)
|  | • San Diego fairy shrimp (Branchinecta sandiegonensis)
069171 | National Park Service Santa Monica Mountains National Recreation Area, Thousand Oaks, California | • Braunton's milk-vetch (Astragalus brauntonii) • Lyon's pentachaeta (Pentachaeta lyonii) | CA | Remove and reduce to possession from lands under Federal jurisdiction | Renew and amend.
PER9080785 | USDA USFS PSW R5 Six Rivers National Forest, Eureka, California | • Lassics lupine (Lupinus constancei) | CA | Remove and reduce to possession from lands under Federal jurisdiction | New.
094893 | Santa Barbara Botanic Garden, Santa Barbara, California | • Hoffmann's rock-cress (Arabis hoffmannii) • Santa Rosa Island manzanita (Arctostaphylos confertiflora) • Marsh Sandwort (Arenaria paludicola) | CA | Remove and reduce to possession from lands under Federal jurisdiction | Renew.
|  | • Braunton's milk-vetch (Astragalus brauntonii)
|  | • Clara Hunt's milk-vetch (Astragalus claranus)
|  | • Ventura Marsh milk-vetch (Astragalus pycnostachyus var. lanosissimus)
|  | • Coastal dunes milk-vetch (Astragalus tener var. titi)
|  | • Nevin's barberry (Berberis nevinii)
|  | • Island barberry (Berberis pinnata ssp. insularis)
|  | • Tiburon paintbrush (Castilleja affinis ssp. neglecta)
|  | • Soft-leaved paintbrush (Castilleja mollis)
|  | • California jewelflower (Caulanthus californicus)
|  | • Coyote ceanothus (Ceanothus ferrisiae)
|  | • Catalina Island mountain-mahogany (Cercocarpus traskiae)
|  | • Chorro Creek bog thistle (Cirsium fontinale var. obispoense)
|  | • La Graciosa thistle (Cirsium loncholepis)
|  | • Presidio clarkia (Clarkia franciscana)
|  | • Vine Hill clarkia (Clarkia imbricata)
|  | • Pismo clarkia (Clarkia speciosa ssp. immaculata)
|  | • Soft bird's-beak (Cordylanthus mollis ssp. mollis)
|  | • Salt marsh bird's-beak (Cordylanthus maritimus ssp. maritimus)
|  | • Gaviota tarplant (Deinandra increscens ssp. villosa)
|  | • Vandenberg monkeyflower (Diplacus vandenbergensis)
|  | • Santa Clara Valley dudleya (Dudleya setchellii)
|  | • Santa Barbara Island liveforever (Dudleya traskiae)
|  | • Kern mallow (Eremalche kernensis)
|  | • Indian Knob mountainbalm (Eriodictyon altissimum)
|  | • Lompoc yerba santa (Eriodictyon capitatum)
|  | • Loch Lomond coyote thistle (Eryngium constancei)
|  | • San Diego button-celery (Eryngium aristulatum var. parishii)
|  | • Menzies' wallflower (Erysimum menziesii)
|  | • Monterey gilia (Gilia tenuiflora ssp. arenaria)
|  | • Hoffmann's slender-flowered gilia (Gilia tenuiflora ssp. hoffmannii)
|  | • Santa Cruz tarplant (Holocarpha macradenia)
|  | • Contra Costa goldfields (Lasthenia conjugens)
|  | • Burke's goldfields (Lasthenia burkei)
|  | • San Joaquin wooly-threads (Monolopia [= Lembertia] congdonii)
|  | • Sebastopol meadowfoam (Limnanthes vinculans)
|  | • San Clemente Island woodland-star (Lithophragma maximum)
|  | • Nipomo Mesa lupine (Lupinus nipomensis)
|  | • Santa Cruz Island bush-mallow (Malacothamnus fasciculatus var. nesioticus)
|  | • Island malacothrix (Malacothrix squalida)
|  | • Santa Cruz Island malacothrix (Malacothrix indecora)
|  | • Bakersfield cactus (Opuntia treleasei)
|  | • California Orcutt grass (Orcuttia californica)
|  | • Lyon's pentachaeta (Pentachaeta lyonii)
|  | • Island phacelia (Phacelia insularis ssp. insularis)
|  | • Yadon's piperia (Piperia yadonii)
|  | • Calistoga allocarya (Plagiobothrys strictus)
|  | • San Diego mesa-mint (Pogogyne abramsii)
|  | • Otay mesa-mint (Pogogyne nudiuscula)
|  | • Gambel's watercress (Rorippa gambellii)
|  | • Santa Cruz Island rockcress (Sibara filifolia)
|  | • Keck's checker-mallow (Sidalcea keckii)
|  | • California seablite (Suaeda californica)
|  | • Santa Cruz Island fringepod (Thysanocarpus conchuliferus)
PER9001458 | Daniel Muratore, Pinole, California | • California tiger salamander (Ambystoma californiense), Santa Barbara County distinct population segment • Conservancy fairy shrimp (Branchinecta conservatio) | CA | Survey, capture, handle, swab, release, and collect adult vouchers | New.
|  | • Longhorn fairy shrimp (Branchinecta longiantenna)
|  | • Vernal pool tadpole shrimp (Lepidurus packardi)
|  | • Riverside fairy shrimp (Streptocephalus woottoni)
|  | • San Diego fairy shrimp (Branchinecta sandiegonensis)
PER9012426 | Endangered Species Recovery Program, California State University, Stanislaus, Turlock, California | • Tipton kangaroo rat (Dipodomys nitratoides nitratoides) • San Joaquin kit fox (Vulpes macrotis mutica) • Blunt-nose leopard lizard (Gambelia silus). • Fresno kangaroo rat (Dipodomys nitratoides exilis). • Buena Vista Lake ornate shrew (Sorex ornatus relictus). • Giant kangaroo rat (Dipodomys ingens). • Bakersfield cactus (Opuntia treleasei). • Riparian brush rabbit (Sylvilagus bachmani riparius). | CA | Survey, capture, handle, mark, insert PIT (passive integrated transponder) tag, attach/remove radio transmitters, take biological samples, hold in captivity, release, provide treatment for sarcoptic mange, and remove and reduce to possession from lands under Federal jurisdiction | New.
|  | • Riparian woodrat (Neotoma fuscipes riparia)
21700B | Diana Grosso, Paso Robles, California | • Tipton kangaroo rat (Dipodomys nitratoides nitratoides) | CA | Survey, capture, handle, and release | Renew.
|  | • San Joaquin kit fox (Vulpes macrotis mutica)
|  | • Giant kangaroo rat (Dipodomys ingens).
028223 | Jonathan Stead, Oakland, California | • Conservancy fairy shrimp (Branchinecta conservatio) • Longhorn fairy shrimp (Branchinecta longiantenna) • Vernal pool tadpole shrimp (Lepidurus packardi) • Riverside fairy shrimp (Streptocephalus woottoni) | CA | Survey, capture, handle, release, collect adult vouchers, collect branchiopod resting eggs, and process soil samples for resting egg identification | Renew.
|  | • San Diego fairy shrimp (Branchinecta sandiegonensis)
PER0036394 | West Kern Environmental Consulting, Buttonwillow, California | • Tipton kangaroo rat (Dipodomys nitratoides nitratoides) • Giant kangaroo rat (Dipodomys ingens). | CA | Survey, capture, handle, and release | New.
037806 | Bureau of Land Management, Bakersfield Field Office, Bakersfield, California | • Conservancy fairy shrimp (Branchinecta conservatio) • Longhorn fairy shrimp (Branchinecta longiantenna) • Vernal pool tadpole shrimp (Lepidurus packardi) • Tipton kangaroo rat (Dipodomys nitratoides nitratoides) | CA | Survey, capture, handle, mark, release, collect adult vouchers, and collect branchiopod resting eggs | Renew.
|  | • Giant kangaroo rat (Dipodomys ingens)
PER0057271 | William Webb Jr., Larkspur, California | • Conservancy fairy shrimp (Branchinecta conservatio) • Longhorn fairy shrimp (Branchinecta longiantenna) • Vernal pool tadpole shrimp (Lepidurus packardi) | CA | Survey, capture, handle, release, and collect adult vouchers | Amend.
|  | • Riverside fairy shrimp (Streptocephalus woottoni)
|  | • San Diego fairy shrimp (Branchinecta sandiegonensis)
110382 | Ava Edens, Mission Viejo, California | • Conservancy fairy shrimp (Branchinecta conservatio) • Longhorn fairy shrimp (Branchinecta longiantenna) • Vernal pool tadpole shrimp (Lepidurus packardi) | CA | Survey, capture, handle, release, collect adult vouchers, and collect branchiopod resting eggs | Renew.
|  | • Riverside fairy shrimp (Streptocephalus woottoni)
|  | • San Diego fairy shrimp (Branchinecta sandiegonensis)
181714 | Pieter Johnson, Boulder, Colorado | • California tiger salamander (Ambystoma, californiense) Sonoma County distinct population segment • Santa Cruz long-toed salamander (Ambystoma macrodactylum croceum) | CA | Survey, capture, handle, examine, swab, and release | Renew.
107075 | Steven Powell, Orinda, California | • California tiger salamander (Ambystoma californiense), Santa Barbara County and Sonoma County distinct population segments • Salt marsh harvest mice (Reithrodontomys raviventris) • San Francisco garter snake (Thamnophis sirtalis tetrataenia) | CA | Survey, capture, handle, swab, and release | Renew.
PER0121458 | Donald Hardeman Jr., Cedar Hills, Texas | • Giant kangaroo rat (Dipodomys ingens) • Morro Bay kangaroo rat (Dipodomys heermanni morroensis) | CA | Survey, capture, handle, and release | Amend.
|  | • Tipton kangaroo rat (Dipodomys nitratoides nitratoides)
|  | • Fresno kangaroo rat (Dipodomys nitratoides exilis)
96514A | Jonathan Aguayo, Buena Park, California | • Foothill yellow-legged frog (Rana boylii) South Sierra and South Coast distinct population segments | CA | Survey, capture, handle, swab, and release | Amend.
29658A | Cindy Dunn, San Diego, California | • Quino checkerspot butterfly (Euphydryas editha quino) | CA | Pursue | Renew.
98083C | Sarah Willbrand, San Francisco, California | • California tiger salamander (Ambystoma californiense), Santa Barbara County distinct population segments | CA | Survey, capture, handle, swab, and release | Renew.
48170A | Lisa Herrera, Santa Maria, California | • California tiger salamander (Ambystoma californiense), Santa Barbara County distinct population segments | CA | Survey, capture, handle, swab, and release | Amend.
769304 | Jeffrey Halstead, Clovis, California | • Tipton kangaroo rat (Dipodomys nitratoides nitratoides) • Fresno kangaroo rat (Dipodomys nitratoides exilis) • California tiger salamander (Ambystoma californiense), Santa Barbara County distinct population segments | CA | Survey, capture, handle, swab, and release | Renew.
02481D | Anna Touchstone, San Diego, California | • Tipton kangaroo rat (Dipodomys nitratoides nitratoides) • Fresno kangaroo rat (Dipodomys nitratoides exilis) • Conservancy fairy shrimp (Branchinecta conservatio) | CA | Survey, capture, handle, release, collect adult vouchers, and collect branchiopod resting eggs | Renew.
|  | • Longhorn fairy shrimp (Branchinecta longiantenna)
|  | • Vernal pool tadpole shrimp (Lepidurus packardi)
|  | • Riverside fairy shrimp (Streptocephalus woottoni)
|  | • San Diego fairy shrimp (Branchinecta sandiegonensis)
207873 | Carol Thompson, Claremont, California | • Riverside fairy shrimp (Streptocephalus woottoni) • San Diego fairy shrimp (Branchinecta sandiegonensis) • San Bernardino Merriam's kangaroo rat (Dipodomys merriami parvus) | CA | Survey, capture, handle, release, collect adult vouchers, and collect branchiopod resting eggs | Renew.
831207 | Natural Resources Assessment, Inc., Riverside, California | • San Bernardino Merriam's kangaroo rat (Dipodomys merriami parvus) • Pacific pocket mouse (Perognathus longimembris pacificus) | CA | Survey, capture, handle, and release | Renew.
139628 | Kleinfelder, San Francisco, California | • Foothill yellow-legged frog (Rana boylii), South Sierra and South Coast distinct population segments | CA | Survey, capture, handle, swab, and release | Amend.
PER9631931 | Karissa Denney, Bakersfield, California | • Foothill yellow-legged frog (Rana boylii), South Sierra and South Coast distinct population segments | CA | Survey, capture, handle, swab, and release | New.
85084C | Dustin Brown, Orangevale, California | • Conservancy fairy shrimp (Branchinecta conservatio) • Longhorn fairy shrimp (Branchinecta longiantenna) • Vernal pool tadpole shrimp (Lepidurus packardi) • Riverside fairy shrimp (Streptocephalus woottoni) | CA | Survey, capture, handle, swab, release, collect adult vouchers, and collect branchiopod resting eggs | Renew.
|  | • San Diego fairy shrimp (Branchinecta sandiegonensis)
|  | • California tiger salamander (Ambystoma californiense), Santa Barbara County distinct population segments

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Rachel Henry,
Acting Regional Ecological Services Program Manager, Pacific Southwest Region, Sacramento, California.

[FR Doc. 2024-09129 Filed 4-26-24; 8:45 am]

BILLING CODE 4333-15-P